FEDERAL MARITIME COMMISSION

Ocean Transportation Intermediary License; Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel Operating Common Carrier Ocean Transportation Intermediary Applicants

MCL-Multi Container, Inc. dba Transpac Cargo Line dba Container Cargo Line, 5301 Blue Lagoon Drive, Ste. 550, Miami, FL 33126, Officer: Kurt E. Diener, CEO, (Qualifying Individual).

Global Transportation, Inc., 31 Postal Pkwy, Ste. B, Newnan, GA 30263, Officer: Darlene R. Bishop, Owner, (Qualifying Individual).

Ocean Navigating Line, Inc., 1661 Hanover Road, Ste. 211, City of Industry, CA 91748, Officers: Luanchong He, Secretary, (Qualifying Individual), Wei Xu, President.

Dart Express (SFO), LLC, 1162 Cherry Avenue, San Bruno, CA 94066, Officer: John J. Hafferty, Vice President, (Qualifying Individual).

Non-Vessel Operating Common Carrier and Ocean Freight Forwarder Transportation Intermediary Applicants

Intergroup Consolidators, Inc., 8045 NW. 68th Street, Miami, FL 33166, Officers: Aymee Garabito, Vice President/Secretary, Antonio Jaquez, President, (Qualifying Individuals).

GPR International, Inc., 8347 NW. 68th Street, Miami, FL 33166, Officer: Roberto Diaz, President, (Qualifying Individual).

Indigo Logistics, LLC, 601 Interchange Drive, Atlanta, GA 30336, Officer: Liliya Ivanenko, President, (Qualifying Individual).

Dart Express (LAX), LLC, 821 W. Arbor Vitae Street, Inglewood, CA 90301, Officer: John J. Hafferty, Vice President, (Qualifying Individual).

Ocean Freight Forwarder—Ocean Transportation Intermediary Applicants

UTOC America, Inc., 2396 East Pacifica Pl., Suite 200, Rancho Dominguez, CA 90220, Officers: Ryoji Yanaka, President, (Qualifying Individual).

Dietrich-Exccel, LLC, 4515 NW. 72nd Avenue, Miami, FL 33166, Officers: Waldyr C. Silva, General Manager, (Qualifying Individual), Karl H. Dietrich, Corp. Partner.

HBI America, LLC, Frederick Woodbridge, 701 Brickell Avenue, Ste. 1650, Miami, FL 33131, Officers: Nazha Hajri, Manager Member, (Qualifying Individual), Herve Balladur, President.

Senko (U.S.A.), Inc., 1800 Century Blvd, Ste. 1250, Atlanta, GA 30345, Officers: Kenji Mori, Exec. Vice President, (Qualifying Individual), Akiba, Morikawa, President.

Dated: August 8, 2008.
Tanga S. FitzGibbon,
Alternate Federal Register Liaison Officer.

[FR Doc. E8-18765 Filed 8-12-08; 8:45 am]

BILLING CODE 6730-01-P